DEPARTMENT OF THE INTERIOR

Fish and Wildlife Service

[FWS-R4-R-2008-N0261; 40136-1265-0000-S3]

Delta and Breton National Wildlife Refuges, Louisiana

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Delta and Breton National Wildlife Refuges. In the final CCP, we describe how we will manage these refuges for the next 15 years.

ADDRESSES: A copy of the CCP may be obtained by writing to: Mr. Jack Bohannan, 61389 Highway 434, Lacombe, LA 70445. The CCP may also be accessed and downloaded from the Service's Web site: http://southeast.fws.gov/planning.

FOR FURTHER INFORMATION CONTACT: Mr. Jack Bohannan; Telephone: 985/882-2026.

SUPPLEMENTARY INFORMATION:

Introduction

With this notice, we finalize the CCP process for Delta and Breton National Wildlife Refuges. We started this process through a notice in the Federal Register on May 30, 2006 (71 FR 30688). For more about the process, see that notice.

Delta National Wildlife Refuge, consisting of 48,799 acres of wetlands at the mouth of the Mississippi River, was established on November 19, 1935, by Executive Order 7229.

Breton National Wildlife Refuge, the second oldest national wildlife refuge in the United States, is a barrier island chain in Breton and Chandeleur Sounds in the Gulf of Mexico. It was established on October 4, 1903, by Executive Order 7938, signed by President Theodore Roosevelt.

We announce our decision and the availability of the final CCP and FONSI for Delta and Breton National Wildlife Refuges in accordance with National Environmental Policy Act (NEPA) [40 CFR 1506.6(b)] requirements. We completed a thorough analysis of impacts on the human environment, which we included in the Draft Comprehensive Conservation Plan and Environmental Assessment (Draft CCP/EA).

The CCP will guide us in managing these refuges for the next 15 years.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update this CCP at least every 15 years in accordance with the Improvement Act.

Comments

Approximately 100 copies of the Draft CCP/EA were made available for a 30-day review period as announced in the Federal Register on July 11, 2008 (73 FR 39978). Twenty-five public comments were received.

Selected Alternative

Three management alternatives were considered for Delta Refuge. Alternative A would have continued current management with no new actions to improve existing programs. Alternative B would have focused on expanding public use opportunities to the fullest extent possible. Alternative C, the preferred alternative and foundation of the CCP, will emphasize managing natural resources based on maintaining and improving wetland habitats with improved techniques; providing quality public use programs and wildlife-dependent recreational activities; and expanding the outreach program.

Three management alternatives were also considered for Breton Refuge. Alternative A would have continued current management practices. Alternative B would have focused on leaving the islands to the natural processes and weather events. Alternative C, the preferred alternative and also the foundation of the CCP, will emphasize working with partners to restore island habitat with large-scale projects, if considered feasible; improving outreach; and providing environmental education relating to the barrier islands to local schools.

Authority: This notice is published under the authority of the National Wildlife Refuge System Improvement Act of 1997, Public Law 105-57.

Dated: October 6, 2008.
Cynthia K. Dohner,
Acting Regional Director.

[FR Doc. E8-29320 Filed 12-10-08; 8:45 am]

BILLING CODE 4310-55-P